DEPARTMENT OF ENERGY

Federal Energy Regulatory Commission

Combined Notice of Filings #1

Take notice that the Commission received the following electric corporate filings:

Docket Numbers: EC25-78-000.

Applicants: Union Electric Company d/b/a Ameren Missouri.

Description: Application for Authorization Under Section 203 of the Federal Power Act of Union Electric Company.

Filed Date: 4/17/25.

Accession Number: 20250417-5260.

Comment Date: 5 p.m. ET 5/8/25.

Take notice that the Commission received the following exempt wholesale generator filings:

Docket Numbers: EG25-292-000.

Applicants: Great Bend Solar, LLC.

Description: Great Bend Solar, LLC submits Notice of Self-Certification of Exempt Wholesale Generator Status.

Filed Date: 4/18/25.

Accession Number: 20250418-5041.

Comment Date: 5 p.m. ET 5/9/25.

Docket Numbers: EG25-293-000.

Applicants: ER Nava Storage, LLC.

Description: ER Nava Storage, LLC submits Notice of Self-Certification of Exempt Wholesale Generator Status.

Filed Date: 4/18/25.

Accession Number: 20250418-5101.

Comment Date: 5 p.m. ET 5/9/25.

Docket Numbers: EG25-294-000.

Applicants: ER South Street Storage, LLC.

Description: ER South Street Storage, LLC submits Notice of Self-Certification of Exempt Wholesale Generator Status.

Filed Date: 4/18/25.

Accession Number: 20250418-5107.

Comment Date: 5 p.m. ET 5/9/25.

Take notice that the Commission received the following electric rate filings:

Docket Numbers: ER14-1140-010; ER10-1484-034; ER12-2381-020; ER13-1069-023; ER16-918-007.

Applicants: Rhode Island State Energy Center, LP, MP2 Energy LLC, MP2 Energy NE LLC, Shell Energy North America (US), L.P., Inspire Energy Holdings, LLC.

Description: Notice of Non-Material Change in Status of Inspire Energy Holdings, LLC, et al.

Filed Date: 4/17/25.

Accession Number: 20250417-5263.

Comment Date: 5 p.m. ET 5/8/25.

Docket Numbers: ER14-2499-008.

Applicants: Oneta Power, LLC.

Description: Supplement to December 31, 2024, Triennial Market Power Analysis for Southwest Power Pool Inc. Region of Oneta Power, LLC.

Filed Date: 4/17/25.

Accession Number: 20250417-5262.

Comment Date: 5 p.m. ET 5/8/25.

Docket Numbers: ER24-2018-001.

Applicants: Louisville Gas and Electric Company, Kentucky Utilities Company.

Description: Compliance filing: Louisville Gas and Electric Company submits tariff filing per 35: LGE and KU Order No. 2023 Compliance Filing to be effective 8/1/2024.

Filed Date: 4/18/25.

Accession Number: 20250418-5136.

Comment Date: 5 p.m. ET 5/9/25.

Docket Numbers: ER24-2040-001.

Applicants: Tri-State Generation and Transmission Association, Inc.

Description: Compliance filing: Further Compliance Filing, Order No. 2023 Generator Interconnection Procedures to be effective 7/16/2024.

Filed Date: 4/18/25.

Accession Number: 20250418-5054.

Comment Date: 5 p.m. ET 5/9/25.

Docket Numbers: ER25-1989-000.

Applicants: Great Bend Solar, LLC.

Description: Initial Rate Filing: Baseline new to be effective 7/15/2025.

Filed Date: 4/17/25.

Accession Number: 20250417-5242.

Comment Date: 5 p.m. ET 5/8/25.

Docket Numbers: ER25-1990-000.

Applicants: Central Maine Power Company.

Description: § 205(d) Rate Filing: Executed Amended and Restated Interconnection Agreement Between CMP and ARCO to be effective 4/1/2025.

Filed Date: 4/18/25.

Accession Number: 20250418-5000.

Comment Date: 5 p.m. ET 5/9/25.

Docket Numbers: ER25-1991-000.

Applicants: Southern California Edison Company.

Description: Petition for Limited Waiver of Southern California Edison Company.

Filed Date: 4/17/25.

Accession Number: 20250417-5264.

Comment Date: 5 p.m. ET 5/8/25.

Docket Numbers: ER25-1992-000.

Applicants: PJM Interconnection, L.L.C.

Description: § 205(d) Rate Filing: Original GIA, Service Agreement No. 7651; Project Identifier AF2-025 to be effective 3/19/2025.

Filed Date: 4/18/25.

Accession Number: 20250418-5008.

Comment Date: 5 p.m. ET 5/9/25.

Docket Numbers: ER25-1993-000.

Applicants: Golden Spread Electric Cooperative, Inc.

Description: Compliance filing: OATT Order No. 904 Compliance to be effective 4/19/2025.

Filed Date: 4/18/25.

Accession Number: 20250418-5023.

Comment Date: 5 p.m. ET 5/9/25.

Docket Numbers: ER25-1995-000.

Applicants: Midcontinent Independent System Operator, Inc., ITC Midwest LLC.

Description: § 205(d) Rate Filing: ITC Midwest LLC submits tariff filing per 35.13(a)(2)(iii: 2025-04-18_ITCM Request for Transmission Rate Incentives to be effective 6/18/2025.

Filed Date: 4/18/25.

Accession Number: 20250418-5045.

Comment Date: 5 p.m. ET 5/9/25.

Docket Numbers: ER25-1996-000.

Applicants: PJM Interconnection, L.L.C.

Description: § 205(d) Rate Filing: Original GIA Service Agreement No. 7629; Project Identifier No. AF1-223 to be effective 3/19/2025.

Filed Date: 4/18/25.

Accession Number: 20250418-5096.

Comment Date: 5 p.m. ET 5/9/25.

Docket Numbers: ER25-1997-000.

Applicants: PJM Interconnection, L.L.C.

Description: § 205(d) Rate Filing: Original GIA SA No. 7631 & Cancellation of IISA No. 6442; AF1-202 to be effective 3/19/2025.

Filed Date: 4/18/25.

Accession Number: 20250418-5118.

Comment Date: 5 p.m. ET 5/9/25.

Docket Numbers: ER25-1998-000.

Applicants: New York Independent System Operator, Inc.

Description: § 205(d) Rate Filing: NYISO 205: Revisions to Procure Uncertainty Reserves to be effective 12/31/9998.

Filed Date: 4/18/25.

Accession Number: 20250418-5144.

Comment Date: 5 p.m. ET 5/9/25.

Docket Numbers: ER25-1999-000.

Applicants: Public Service Company of Colorado.

Description: § 205(d) Rate Filing: 2024-04-17—PSC—CSU—E&P Agreement—864—0.0.0 to be effective 3/19/2025.

Filed Date: 4/18/25.

Accession Number: 20250418-5152.

Comment Date: 5 p.m. ET 5/9/25.

Docket Numbers: ER25-2000-000.

Applicants: PJM Interconnection, L.L.C.

Description: Tariff Amendment: Notice of Cancellation of ISA, SA No. 6594; Queue Nos. AE2-334 & AG1-103 to be effective 5/17/2025.

Filed Date: 4/18/25.

Accession Number: 20250418-5173.

Comment Date: 5 p.m. ET 5/9/25.

Docket Numbers: ER25-2001-000.

Applicants: PJM Interconnection, L.L.C.

Description: § 205(d) Rate Filing: Original CSA Service Agreement No. 7632; Project Identifier No. AF1-202 to be effective 3/19/2025.

Filed Date: 4/18/25.

Accession Number: 20250418-5177.

Comment Date: 5 p.m. ET 5/9/25.

Docket Numbers: ER25-2002-000.

Applicants: PJM Interconnection, L.L.C.

Description: § 205(d) Rate Filing: Mitigating Variability in ELCC Accreditation between RPM Auctions to be effective 6/18/2025.

Filed Date: 4/18/25.

Accession Number: 20250418-5191.

Comment Date: 5 p.m. ET 5/9/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 18, 2025.
Carlos D. Clay,
Deputy Secretary.

[FR Doc. 2025-07080 Filed 4-23-25; 8:45 am]

BILLING CODE 6717-01-P